DEPARTMENT OF ENERGY

Federal Energy Regulatory Commission

[Docket No. RP95-408-049]

Columbia Gas Transmission Corporation; Notice of Compliance Filing

January 8, 2003.

Take notice that on December 31, 2002, Columbia Gas Transmission Corporation (Columbia) tendered for filing as part of its FERC Gas Tariff, Second Revised Volume No. 1, the following revised tariff sheets bearing a proposed effective date of February 1, 2003:

Sixty-second Revised Sheet No. 25

Sixty-second Revised Sheet No. 26

Sixty-second Revised Sheet No. 27

Fifty-third Revised Sheet No. 28

Seventh Revised Sheet No. 28B

Eighteenth Revised Sheet No. 29

Twenty-eighth Revised Sheet No. 30A

Columbia states that this filing is being submitted pursuant to an order issued by the Commission on September 15, 1999, that approved an uncontested settlement in the above-referenced proceeding. Columbia Gas Transmission Corporation, 88 FERC 61,217 (1999). The settlement established environmental cost recovery through unit components of base rates, all as more fully set forth in article VI of the settlement agreement filed April 5, 1999 (Phase II Settlement).

Columbia is required to file annually a limited NGA section 4 filing to adjust its environmental unit components effective February 1 to recover its environmental costs covered by the Phase II Settlement, within agreed-upon ceilings and recovery percentages. For the annual period February 1, 2003, through January 31, 2004, the Phase II Settlement permits Columbia to collect “no more than $14 million annually in Main Program Costs”, and “no more than $3 million annually in Storage Well Program Costs.” per article VI(B) of the Phase II Settlement.

Columbia states that the instant filing satisfies that requirement. It provides for the February 1, 2003, effectiveness of revised unit components designed to collect $12 million in main program costs and to flowback an over-recovery of $ 0.5 million of storage well program costs.

Columbia states that copies of its filing have been mailed to all firm customers, interruptible customers and affected state commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: January 13, 2003.

Magalie R. Salas,
Secretary.

[FR Doc. 03-755 Filed 1-13-03; 8:45 am]

BILLING CODE 6717-01-P